DEPARTMENT OF AGRICULTURE

Farm Service Agency

7 CFR Part 760

[FSA-2025-0007]

RIN 0560-AI71

Supplemental Disaster Relief Program (SDRP) Stage 1; Approval of Information Collection Request

AGENCY: Farm Service Agency, U.S. Department of Agriculture (USDA).

ACTION: Final rule; notice of approval of Information Collection Request (ICR).

SUMMARY: The final rule entitled Supplemental Disaster Relief Program (SDRP) Stage 1 was published on July 10, 2025. The Office of Management and Budget cleared the associated information collection requirements (ICR) on July 1, 2025. This document announces approval of the ICR.

DATES: The ICR associated with the final rule published in the Federal Register on July 10, 2025, at 90 FR 30561 was approved by OMB on July 1, 2025, under OMB Control Number 0503-0028.

FOR FURTHER INFORMATION CONTACT: Kathy Sayers; telephone: (202) 720-6870; email: Kathy.Sayers@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: The information collection request has been approved by OMB under the control number of 0503-0028; Expiration Date: 10/31/2027. FSA will use data already on file with FSA or RMA to generate pre-filled applications for producers and verify eligibility using the following forms: CCC-901, CCC-902E, CCC-902I, and FSA-510. In addition, for the information collection changes related to the existing approval under 0503-0028, the agency is seeking to use FSA-526 and a letter to producers with this data collection. The FSA-526 and letter to producers are the only new data collection activities associated with this request; the pre-filled applications are generated with data previously collected and already on file, with no additional burden to producers. The total annual burden hours for this information collection is 183,445. This final rule is a one-time announcement of SDRP Stage 1 federal financial assistance funding.

William Beam,
Administrator, Farm Service Agency.

[FR Doc. 2025-14094 Filed 7-24-25; 8:45 am]

BILLING CODE 3411-E2-P